EQUAL EMPLOYMENT OPPORTUNITY COMMISSION

Sunshine Act; Notice of Meeting

Agency Holding the Meeting: Equal Employment Opportunity Commission. Federal Register Citation of Previous Announcement: 75 FR 68788, Tuesday, November 9, 2010.

Previously Announced Time and Date of Meeting: Wednesday, November 17, 2010, 10 a.m. Eastern Time.

Change in the Meeting: The meeting time has been changed to 9:30 a.m. Eastern Time.

Contact Person for More Information: Stephen Llewellyn, Executive Officer, on (202) 663-4070.

Dated: November 15, 2010.
Stephen Llewellyn,
Executive Officer, Executive Secretariat.

This Notice Issued November 15, 2010.

[FR Doc. 2010-29129 Filed 11-15-10; 4:15 pm]

BILLING CODE 6570-01-P